GENERAL SERVICES ADMINISTRATION

Privacy Act of 1974; Notice of new System of Records

AGENCY: General Services Administration.

ACTION: New Notice.

SUMMARY: GSA proposes to establish a new system of records subject to the Privacy Act of 1974, as amended, 5 U.S.C. 552a.

DATES: Effective Date: June 21, 2010.

FOR FURTHER INFORMATION CONTACT: Call or e-mail the GSA Privacy Act Officer: telephone 202-208-1317; e-mail gsa.privaccyact@gsa.gov.

ADDRESSES: GSA Privacy Act Officer (CIB), General Services Administration, 1800 F Street, NW., Washington, DC 20405.

SUPPLEMENTARY INFORMATION: GSA proposes to establish a new system of records subject to the Privacy Act of 1974, 5 U.S.C. 552a. The system will provide for the collection of information to track and manage the Art in Architecture program, the National Artist Registry and the fine arts collection. The privacy information within the system will be accessed and used by GSA employees in the Art in Architecture and Fine Arts programs.

Dated: May 13, 2010.
Cheryl M. Paige,
Director, Office of Information Management.

SYSTEM NAME:

GSA/PBS-7 (The Museum System - TMS)

SYSTEM LOCATION:

The system is maintained for GSA under contract, and the records are maintained in electronic form. The system and records are located at the vendor location in PBS Enterprise Service Center (ESC) facility located at 14426 Albemarle Point Place, Suite 120, Building 3, Chantilly, VA 20151. Contact the System Manager for additional information.

CATEGORIES OF INDIVIDUALS COVERED BY THE SYSTEM:

Individuals in the Art in Architecture and Fine Arts programs, including those in the fine arts collection, and in the National Artist Registry.

CATEGORIES OF RECORDS IN THE SYSTEM:

The system contains information needed for managing the Art in Architecture and Fine Arts programs, which includes access to information on artists represented in the fine arts collection and artists in the National Registry. Records may include but are not limited to: (1) biographical data such as name, birth date, and educational level; and (2) contact information such as telephone number, street address and email address.

AUTHORITY FOR MAINTENANCE OF THE SYSTEM:

The Federal Property and Administrative Services Act of 1949 (40 U.S.C. § 501 et seq.).

PURPOSE:

To establish and maintain an electronic system to manage and track all details pertaining to the full life cycle of Art in Architecture projects and manage the National Artist Registry in support of the Art in Architecture program. The system will also support the PBS Fine Arts program to safeguard the fine arts collection against waste, loss and unauthorized use or misappropriation.

ROUTINE USES OF THE SYSTEM RECORDS, INCLUDING CATEGORIES OF USERS AND THEIR PURPOSES FOR USING THE SYSTEM.

System information may be accessed and used by employees of the Art in Architecture and Fine Art programs to manage, track, verify, and update system information.

Information from this system also may be disclosed as a routine use:

a. In any legal proceeding, where pertinent, to which GSA, a GSA employee, or the United States is a party before a court or administrative body.

b. To a Federal, State, local, or foreign agency responsible for investigating, prosecuting, enforcing, or carrying out a statute, rule, regulation, or order when GSA becomes aware of a violation or potential violation of civil or criminal law or regulation.

c. To an appeal, grievance, hearing, or complaints examiner; an equal employment opportunity investigator, arbitrator, or mediator; and an exclusive representative or other person authorized to investigate or settle a grievance, complaint, or appeal filed by an individual who is the subject of the record.

d. To the Office of Personnel Management (OPM), the Office of Management and Budget (OMB), and the Government Accountability Office (GAO) in accordance with their responsibilities for evaluating Federal programs.

e. To a Member of Congress or his or her staff on behalf of and at the request of the individual who is the subject of the record.

f. To an expert, consultant, or contractor of GSA in the performance of a Federal duty to which the information is relevant.

g. To the National Archives and Records Administration (NARA) for records management purposes.

h. Nationality and year of birth may be disclosed to the public when relevant to an artist's work.

i. To appropriate agencies, entities, and persons when (1) the Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; and (3) the disclosure made to such agencies, entities, and persons is reasonably necessary to assist in connection with GSA's efforts to respond to the suspected or confirmed compromise and prevent, minimize, or remedy such harm.

POLICIES AND PRACTICES FOR STORING, RETRIEVING, ACCESSING, AND RETAINING, AND DISPOSING OF SYTEM RECORDS:

STORAGE:

All records are stored electronically.

RETRIEVABILITY:

Records are retrievable based on any information captured, including but not limited to: name, date of birth, place of birth, and current address.

SAFEGUARDS:

System records are safeguarded in accordance with the requirements of the Privacy Act. Access is limited to authorized individuals with passwords, and the database is maintained behind a firewall certified by the National Computer Security Association.

RETENTION AND DISPOSAL:

System records are retained and disposed of according to GSA records maintenance and disposition schedules and the requirements of the National Archives and Records Administration.

SYSTEM MANAGER AND ADDRESS:

Systems Development Division, Public Building Service, General Services Administration, 1800 F Street, NW., Washington, DC 20405.

NOTIFICATION PROCEDURE:

Individuals wishing to inquire if the system contains information about them should contact the system manager at the above address.

RECORD ACCESS PROCEDURES:

Individuals wishing to access their own records should contact the system manager at the address above.

CONTESTING RECORD PROCEDURE:

Individuals wishing to amend their records should contact the system manager at the address above.

RECORD SOURCE CATEGORIES:

The sources for information in the system are data from legacy systems, information submitted by individuals or their representatives, information gathered from public sources and information from the GSA staff directory.

[FR Doc. 2010-12039 Filed 5-19-10; 8:45 am]

BILLING CODE 6820-34-S